NATIONAL FOUNDATION FOR THE ARTS AND THE HUMANITIES

National Endowment for the Arts; National Council on the Arts 152nd Meeting

Pursuant to section 10 (a) (2) of the Federal Advisory Committee Act (Pub. L. 92-463), as amended, notice is hereby given that a meeting of the National Council on the Arts will be held from July 14-16, 2004.

The Council will meet in closed session on July 14th, from 6:30 p.m. to 9 p.m. at the St. Regis Hotel, 923 16th St., NW., Washington, DC 20006, and on July 15th from 2 p.m. to 4 p.m. in Room 527 at the Nancy Hanks Center, 1100 Pennsylvania Avenue, NW., Washington, DC 20506 for discussion of National Medal of Arts nominations. In accordance with the determination of the Chairman of April 14, 2004, these sessions will be closed to the public pursuant to subsection (c)(4), (6) and (9)(B) of section 552b of title 5, United States Code.

The remainder of meeting, from 9 a.m. to 12:30 p.m. on July 16th, will be held in Room M-09 at the Nancy Hanks Center and will be open to the public on a space available basis. Following opening remarks and announcements, there will be a presentation on Operation Homecoming, including a presentation by guest author Marilyn Nelson. This will be followed by an NEA Research Report on Public Participation in Literature. A presentation on NEA/State and Regional Partnerships, led by Senior Deputy Chairman Eileen Mason, will feature: “Tog” Newman, Chair of the North Carolina Arts Council and past Chair of the National Assembly of State Arts Agencies (NASAA); Robert Booker, Executive Director of the Minnesota State Arts Board and current Chair of NASAA; David Fraher, Executive Director of Arts Midwest; and Jonathan Katz, Executive Director of NASAA. Other topics will include: application review for National Leadership Initiatives, NEA Jazz Masters Fellowships, and Literature Fellowships/Translation; review of guidelines for Literature Translation Projects; and general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c) (6) of 5 U.S.C. 552b.

Any interested persons may attend, as observers, Council discussions and reviews that are open to the public. If you need special accommodations due to a disability, please contact the Office of AccessAbility, National Endowment for the Arts, 1100 Pennsylvania Avenue, NW., Washington, DC 20506, (202) 682-5532, TTY-TDD (202) 682-5429, at least seven (7) days prior to the meeting.

Further information with reference to this meeting can be obtained from the Office of Communications, National Endowment for the Arts, Washington, DC 20506, at (202) 682-5570.

Dated: June 16, 2004.
Kathy Plowitz-Worden,
Panel Coordinator, Office of Guidelines and Panel Operations.

[FR Doc. 04-14187 Filed 6-22-04; 8:45 am]

BILLING CODE 7537-01-P